DEPARTMENT OF ENERGY

Federal Energy Regulatory Commission

Notice of Change in Meeting

Upon the affirmative votes of Chairman Danly and Commissioners Chatterjee, and Glick, the following Company name Entergy Mississippi, Inc., is hereby added to Item No. E-15 on the Commission's open meeting scheduled for November 19, 2020.¹

¹ This Notice of Change in Meeting is published pursuant to the government in the Sunshine Act (Pub. L. 94-409), 5 U.S.C. 552b.

Item No. | Docket No. | Company
E-15 | EL10-65-007 | Louisiana Public Service Commission v. Entergy Corporation, Entergy Services, Inc., Entergy Louisiana, LLC, Entergy Arkansas, Inc., Entergy Mississippi, Inc., Entergy New Orleans, Inc., Entergy Gulf States, Louisiana, L.L.C., Entergy Texas, Inc.
| ER14-2085-003, ER11-3658-003, ER12-1920-003, ER13-1595-003, (consolidated) | Entergy Services, Inc.

Dated: November 17, 2020.
Kimberly D. Bose,
Secretary.

[FR Doc. 2020-26019 Filed 11-24-20; 8:45 am]

BILLING CODE 6717-01-P